FEDERAL COMMUNICATIONS COMMISSION

[FR ID 136272]

Privacy Act of 1974; Matching Program

AGENCY: Federal Communications Commission.

ACTION: Notice of a new matching program.

SUMMARY: In accordance with the Privacy Act of 1974, as amended (“Privacy Act”), this document announces a new computer matching program the Federal Communications Commission (“FCC” or “Commission” or “Agency”) and the Universal Service Administrative Company (USAC) will conduct with the Department of Education. The purpose of this matching program is to verify the eligibility of applicants to and subscribers of the Affordable Connectivity Program (ACP), which is administered by USAC under the direction of the FCC. More information about this program is provided in the SUPPLEMENTARY INFORMATION section below.

DATES: Written comments are due on or before May 18, 2023. This computer matching program will commence on May 18, 2023, and will conclude 18 months after the effective date.

ADDRESSES: Send comments to Elliot S. Tarloff, FCC, 45 L Street NE, Washington, DC 20554, or to Privacy@fcc.gov.

FOR FURTHER INFORMATION CONTACT: Elliot S. Tarloff at 202-418-0886 or Privacy@fcc.gov.

SUPPLEMENTARY INFORMATION: In the Consolidated Appropriations Act, 2021, Public Law 116-260, 134 Stat. 1182, 2129-36 (2020), Congress created the Emergency Broadband Benefit Program, and directed use of the National Verifier to determine eligibility based on various criteria, including the qualifications for Lifeline (Medicaid, SNAP, etc.). EBBP provided $3.2 billion in monthly consumer discounts for broadband service and one-time provider reimbursement for a connected device (laptop, desktop computer or tablet). In the Infrastructure Investment and Jobs Act, Public Law 117-58, 135 Stat. 429, 1238-44 (2021) (codified at 47 U.S.C. 1751-52), Congress modified and extended EBBP, provided an additional $14.2 billion, and renamed it the Affordable Connectivity Program (ACP). A household may qualify for the ACP benefit under various criteria, including an individual qualifying for the FCC's Lifeline program.

In a Report and Order adopted on March 31, 2016, (81 FR 33026, May 24, 2016) (2016 Lifeline Modernization Order), the Commission ordered USAC to create a National Lifeline Eligibility Verifier (“National Verifier”), including the National Lifeline Eligibility Database (LED), that would match data about Lifeline applicants and subscribers with other data sources to verify the eligibility of an applicant or subscriber. The Commission found that the National Verifier would reduce compliance costs for Lifeline service providers, improve service for Lifeline subscribers, and reduce waste, fraud, and abuse in the program.

The Consolidated Appropriations Act of 2021 directs the FCC to leverage the National Verifier to verify applicants' eligibility for ACP. The purpose of this matching program is to verify the eligibility of ACP applicants and subscribers by determining whether they receive Federal Pell Grant benefits administered by the Department of Education.

Participating Agencies

Department of Education (source agency), Federal Communications Commission (recipient agency) and Universal Service Administrative Company

Authority for Conducting the Matching Program

The authority for the FCC's ACP is Infrastructure Investment and Jobs Act, Public Law 117-58, 135 Stat. 429, 1238-44 (2021) (codified at 47 U.S.C. 1751-52); 47 CFR part 54.

The Department of Education's legal authority for this matching program and the associated disclosures is provided by Section 904 of division N of the Consolidated Appropriations Act, 2021 (Pub. L. 116-260) as amended by Division F, Title V of the Infrastructure and Investment Jobs Act, Public Law 117-58, and the Privacy Act, 5 U.S.C. 552a. Prior to sending any records under this matching program to the Department of Education, USAC will obtain the prior written consent of all applicants for and subscribers to the ACP benefits whose eligibility is based on being a recipient of a Federal Pell Grant so as to permit the Department of Education to disclose their receipt of a Federal Pell Grant disbursement in an active award year to USAC and the FCC under the Family Educational Rights and Privacy Act (FERPA), 20 U.S.C. 1232g(b) and 34 CFR 99.30, and the Privacy Act.

Purpose(s)

The purpose of this modified matching agreement is to verify the eligibility of applicants and subscribers to Lifeline, as well as to ACP and other Federal programs that use qualification for Lifeline as an eligibility criterion. This new agreement will permit eligibility verification for ACP by checking an applicant's/subscriber's participation in the Federal Pell Grant Program. Under FCC rules, consumers receiving these benefits qualify for ACP benefits.

Categories of Individuals

The categories of individuals whose information is involved in the matching program include, but are not limited to, those individuals who have applied for ACP benefits; are currently receiving ACP benefits; or who have received ACP benefits.

Categories of Records

The categories of records involved in the matching program include the last four digits of the applicant's Social Security Number, date of birth, and first and last name. The National Verifier will transfer these data elements to the Department of Education, which will respond either “yes” or “no” that the individual is enrolled in a qualifying assistance program: Federal Pell Grant administered by the Department of Education.

System(s) of Records

The records shared as part of this matching program reside in the ACP system of records, FCC/WCB-3, Affordable Connectivity Program, which was published in the Federal Register at 86 FR 71494 (Dec. 16, 2021).

Federal Communications Commission.
Marlene Dortch,
Secretary.

[FR Doc. 2023-08123 Filed 4-17-23; 8:45 am]

BILLING CODE 6712-01-P